NATIONAL SCIENCE FOUNDATION

Proposal Review Panel for Materials Research; Notice of Meeting

In accordance with the Federal Advisory Committee Act (Pub. L. 92-463, as amended), the National Science Foundation (NSF) announces the following meeting:

Name and Committee Code: Proposal Review Panel for Materials Research—Site Visit for STC Center for Integrated Quantum Materials (CIQM), Harvard University (#1203).

Date and Time: May 7, 2018; 7:00 p.m.-9:00 p.m.; May 8, 2018; 7:20 a.m.-8:30 p.m.; May 9, 2018: 8:00 a.m.-3:30 p.m.

Place: Harvard University, Massachusetts Hall, Cambridge, MA 02138.

Type of Meeting: Part-open.

Contact Person: Dr. Tomasz Durakiewicz, Program Director, Condensed Matter Physics (CMP). Division of Materials Research, Room E 9344, National Science Foundation, 2415 Eisenhower Avenue, Alexandria, VA 22314; Telephone (703) 292-4892.

Purpose of Meeting: NSF site visit to provide advice and recommendations concerning further NSF support for the Center.

Agenda:

Start | End |
CIQM, Harvard U.
Day 1, Monday, May 7
7:00 p.m | 9:00 p.m | Briefing of Site Visit Team by NSF (CLOSED).
Day 2, Tuesday, May 8
7:20 a.m | 8:00 a.m | Continental Breakfast with STC Participants.
8:00 a.m | 8:50 a.m | Director's Overview (Session with NSF Panel) (CLOSED).
8:50 a.m | 9:00 a.m | Discussion.
9:00 a.m | 9:35 a.m | RA-1.
9:35 a.m | 9:45 a.m | Discussion.
9:45 a.m | 10:20 a.m | RA-2.
10:20 a.m | 10:30 a.m | Discussion.
10:30 a.m | 10:45 a.m | Break.
10:45 a.m | 11:20 a.m | RA-3.
11:20 a.m | 11:30 a.m | Discussion.
11:30 a.m | 12:05 p.m | RA-4.
12:05 p.m | 12:15 p.m | Discussion.
12:15 p.m | 12:40 p.m | Executive Session for Site Visit Team and NSF (CLOSED).
12:40 p.m | 1:40 p.m | Lunch—Site Visit Team, NSF and Students/Post Docs.
1:40 p.m | 2:00 p.m | Role of theory.
2:00 p.m | 2:10 p.m | Discussion.
2:10 p.m | 2:50 p.m | Education and Outreach, Diversity Plan.
2:50 p.m | 3:00 p.m | Discussion.
3:00 p.m | 3:20 p.m | Knowledge Transfer, Industry and Other Collaborations.
3:20 p.m | 3:30 p.m | Discussion.
3:30 p.m | 3:50 p.m | Legacy planning.
3:50 p.m | 4:00 p.m | Discussion.
4:00 p.m | 5:00 p.m | Poster Session.
5:00 p.m | 6:30 p.m | Executive Session of Site Visit Team and NSF: Prepare Questions (CLOSED).
6:30 p.m | 6:45 p.m | Site Visit Team Meets with STC Director and Executive Committee.
7:00 p.m | 8:30 p.m | Transfer to Hotel and Dinner Meeting for Site Visit Team and NSF (CLOSED).
Day 2, Wednesday, May 9
8:00 a.m | 10:00 a.m | Executive Session—Director's Response/Continental Breakfast.
10:00 a.m | 10:10 a.m | Break.
10:10 a.m | 11:00 a.m | Executive Session of Site Visit Team (CLOSED).
11:00 a.m | 12:00 p.m | Executive Session—Meeting with University Administrators.
12:00 p.m | 3:00 p.m | Executive Session of Site Visit Team—Report Writing (working lunch) (CLOSED).
3:00 p.m | 3:30 p.m | Debriefing with STC Director and Executive Committee.
3:30 p.m |  | End of the Site Visit.

Reason for Closing: The work being reviewed during closed portions of the site visit include information of a proprietary or confidential nature, including technical information; financial data, such as salaries and personal information concerning individuals associated with the project. These matters are exempt under 5 U.S.C. 552b(c), (4) and (6) of the Government in the Sunshine Act.

Dated: April 2, 2018.
Crystal Robinson,
Committee Management Officer.

[FR Doc. 2018-06930 Filed 4-4-18; 8:45 am]

BILLING CODE 7555-01-P